DEPARTMENT OF THE INTERIOR

Fish and Wildlife Service

[Docket No. FWS-HQ-IA-2022-0067; FXIA16710900000/223/FF09A30000; OMB Control Number 1018-0093]

Agency Information Collection Activities; Federal Fish and Wildlife Permit Applications and Reports—Management Authority

AGENCY: Fish and Wildlife Service, Interior.

ACTION: Notice of information collection; request for comment.

SUMMARY: In accordance with the Paperwork Reduction Act of 1995, we, the U.S. Fish and Wildlife Service (Service), are proposing to renew an information collection, with changes.

DATES: Interested persons are invited to submit comments on or before August 29, 2022.

ADDRESSES: Send your comments on the information collection request (ICR) by one of the following methods (please reference OMB Control No. 1018-0093 in the subject line of your comment):

• Internet (preferred): https://www.regulations.gov. Follow the instructions for submitting comments on Docket No. FWS-HQ-IA-2022-0067.

• Email: Info_Coll@fws.gov.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The General Permit Requirements at 50 CFR 13 provide the uniform rules, conditions, and procedures for the application for, and the issuance, denial, suspension, revocation, and general administration of, all permits for all of the laws, treaties, and regulations administered by the Service that authorize activities requiring permits. The requirements in 50 CFR part 13 are in addition to any other permit regulations that may apply to a specific circumstance and are outlined in other sections of our regulations.

The Wild Bird Conservation Act (WBCA; 16 U.S.C. 4901-4916) and the Convention on International Trade in Endangered Species of Wild Fauna and Flora (CITES; 27 U.S.T. 1087, March 3, 1973) use a system of permits and certificates to help ensure that international trade is legal and does not threaten the survival of wildlife or plant species in the wild. Permits under the U.S. Endangered Species Act (ESA; 16 U.S.C. 1531 et seq.) and the Marine Mammal Protection Act (MMPA; 16 U.S.C. 1361 et seq.) ensure that activities are consistent with the intent and purposes of the ESA and MMPA. Permitted activities under the Bald and Golden Eagle Act (BGEPA; 16 U.S.C. 668-668d) must be compatible with the preservation of eagles. Permitted activities under the Lacey Act (injurious wildlife; 18 U.S.C. 42; 16 U.S.C. 3371-3378) regulate the importation into the United States and any shipment between the continental United States, the District of Columbia, Alaska, Hawaii, the Commonwealth of Puerto Rico, or any possession of the United States, of animal species determined to be injurious by the Secretary of the Interior. Such importation and shipments are prohibited, except by permit. Although the Service's Division of Management Authority does not administer the Migratory Bird Treaty Act (MBTA; 16 U.S.C. 704), we receive authorization from the Migratory Bird Program to issue import/export permits under the MBTA.

Prior to the import or export of species listed under the MBTA, MMPA, BGEPA, Lacey Act, WBCA, ESA, and/or CITES, the Management Authority and Scientific Authority must make appropriate determinations and issue the appropriate documents. Section 8A of the ESA designates the Secretary of the Interior as the U.S. Management Authority and U.S. Scientific Authority for CITES. The Secretary in turn delegated these authorities to the Service.

Before a country can issue an export permit for CITES Appendix I or II specimens, the CITES Scientific Authority of the exporting country must determine that the export will not be detrimental to the survival of the species, and the Management Authority must be satisfied that the specimens were acquired legally. For the export of Appendix III specimens, the Management Authority must be satisfied that the specimens were acquired legally (CITES does not require findings from the Scientific Authority). Prior to the importation of Appendix I specimens, both the Scientific Authority and the Management Authority of the importing country must make required findings. The Scientific Authority must also monitor trade of all species to ensure that the level of trade is sustainable.

Article VIII(3) of the CITES treaty states that participating parties should make efforts to ensure that CITES specimens are traded with a minimum of delay. Section XIII of Resolution Conf. 12.3 (Rev. CoP18) recommends use of simplified procedures for issuing CITES documents to expedite trade that will have no impact, or a negligible impact, on conservation of the species involved.

All Service permit applications are in the 3-200 series of forms, each tailored to a specific activity based on the requirements for specific types of permits. In accordance with Federal regulations at 50 CFR 13.12, we collect standard identifier information for all permit applications, such as:

• Applicant's full name, whether an individual or business, and address (street address, city, county, State, and zip code; and mailing address, if different from street address); main and alternate telephone numbers; and an email address (required if filing electronically, optional for a mail-in application), and

—If the applicant resides or is located outside the United States, an address in the United States, and, if the applicant is conducting commercial activities, the name and address of the applicant's agent inside the United States; and

—If the applicant is a business, corporation, public agency, or institution, the tax identification number; description of the business type, corporation, agency, or institution; and the name and title of the person responsible for the permit (such as president, principal officer, or director);

• Location where the requested permitted activity is to occur or be conducted;

• Certification containing the following language:

—I hereby certify that I have read and am familiar with the regulations contained in title 50, part 13, of the Code of Federal Regulations and the other applicable parts in subchapter B of chapter I of title 50, Code of Federal Regulations, and I further certify that the information submitted in this application for a permit is complete and accurate to the best of my knowledge and belief. I understand that any false statement herein may subject me to suspension or revocation of this permit and to the criminal penalties of 18 U.S.C. 1001.

• Desired effective date of permit (except where issuance date is fixed by the part under which the permit is issued);

• Signature date;

• Signature of the applicant;

• Such other information as the Director determines relevant to the processing of the application, including but not limited to information on the environmental effects of the activity consistent with 40 CFR 1506.5 and Departmental procedures at 516 DM 6, appendix 1.3A; and

• Additional information required on applications for other types of permits may be found by referring to table 1 in paragraph (b) in 50 CFR 13.12.

Standardization of general information common to the application forms makes the filing of applications easier for the public, as well as expediting our review of applications. The information that we collect on applications and reports is the minimum necessary for us to determine if the applicant meets/continues to meet issuance requirements for the particular activity.

Proposed Revisions

In 2020, the Service implemented a new electronic permit application called ePermits. The ePermits system allowed the Service to move towards a streamlined permitting process to reduce the information collection burden on the public, particularly small businesses. Public burden reduction is a priority for the Service, the Assistant Secretary for Fish and Wildlife and Parks, and senior leadership at the Department of the Interior. The intent of the ePermits system is to fully modernize the permitting process to improve the customer experience and to reduce time burden on respondents. This system enhances the user experience by allowing users to enter data from any device that has internet access, including personal computers, tablets, and smartphones. It also links the permit applicant to the Pay.gov system for payment of the associated permit application fee.

Users of the ePermits system register for and use an account which will then automatically populate the forms they complete with the required identification information. The system eliminates the need for applicants to enter their information multiple times when they apply for separate permits and therefore reduces the burden on the applicant. The account registration process will also provide private sector users an opportunity to self-identify as a small business, which will enable the Service to more accurately report burden associated with information collection requirements placed on them.

At this time, the ePermits system is unable to fully digitize Section E of the permit application process. Section E of each permit application is customized based on the permit type. We anticipate being able to begin digitizing Section E on our application forms in calendar year 2022. As a result of challenges with the development of forms within the ePermits system, we do not have a timeline for full digitization of Section E. We anticipate beginning the digitization of the report forms contained in this collection by 2023, and believe the digitization of Section E on application forms should be finalized by fiscal year 2024, as funding and resources become available.

We anticipate changes to 12 application forms outlined below; however, we do not anticipate significant changes to the questions within Section E of the other application forms. We have identified questions that could be simplified into plain English. Our proposed changes to the application forms are described below:

• Changes to trophy applications (FWS Forms 3-200-19, “Import of Sport-Hunted Trophies of Southern African Leopard and Namibian Southern White Rhinoceros”; 3-200-20, “Import of Sport-Hunted Trophies (Appendix I of CITES and/or ESA)”; 3-200-21, “Import of Sport-Hunted Trophies of Argali”; and 3-200-22, “Import of Sport-Hunted Bontebok Trophies from South Africa”), to include specific questions on the sex and approximate age of the trophy, and copies of the specific forms provided by each country to the hunter as part of their application.

• Updating FWS Form 3-200-31, “Introduction from the Sea (CITES),” to add information requirements necessary to identify ports of entry to ensure proper inspection/clearance of specimens imported under the introduction from the sea.

• Updating FWS Form 3-200-32, “Export/Re-Export of Plants (CITES),” to ensure that each section of the application requests receipts documenting the legal acquisition of the species requested.

• Updating FWS Form 3-200-37d, “Interstate or Foreign commerce of Live Animals/Samples/or Products (ESA),” to add a question on the description of and justification for the requested activity. We will outline the information needed for each of the following purposes: scientific research, conservation education and/or zoological display, and captive propagation for the conservation and survival of the species.

• Based on requirements outlined in Resolution Conf. 11.20 (Rev CoP18), we will be updating FWS Form 3-200-37f, “Import of Live African Elephant from Botswana, Namibia, South Africa, and Zimbabwe and Southern White Rhino from Eswatini and South Africa,” to request additional information required in order to make the finding of appropriate and acceptable destinations for the import of live African elephants and rhinoceros.

• Updates to FWS Form 3-200-41, “Captive-Bred Wildlife Registration (U.S. Endangered Species Act,” will be updated to include all new applicants completing sections 1, 2, and 4, as appropriate, and section 3 for renewing a captive-bred wildlife registration.

• Splitting FWS Form 3-200-43, “Take/Import/Export of Marine Mammals for Public Display, Scientific Research, Enhancement, or Rescue/Rehabilitation/Release Activities or Renewal/Amendment of Existing Permit (MMPA and/or ESA),” into smaller parts to ensure the applicant can easily identify and submit the correct type of application for activities being requested under the MMPA.

• Clarification of information needed on FWS Form 3-200-46, “Import/Export/Re-Export of Personal Pets under the Conservation on International Trade in Endangered Species (CITES) and/or the U.S. Endangered Species Act (ESA),” will include the requirement of the address of an applicant when they will be relocating with their pet.

• Updates to FWS Form 3-200-73, “Re-Export of Wildlife (CITES),” will be updated to align with our FWS Form 3-200-24, “Export of Live Captive-Born Animals and/or Part/Products from Non-Native Species under the Convention on International Trade in Endangered Species (CITES),” for information collected on live animals to include the sex and birth/hatch date of the live wildlife to be re-exported.

We do not plan to make changes to the annual report forms contained in this collection. We do make note that some permits are issued with specific reporting requirements at the termination of the permitted activity. The information varies based on the permitted activities. The report is submitted at the time a permit renewal is requested or at the termination of the permitted activity.

The public may request copies of any form or document contained in this information collection by sending a request to the Service Information Collection Clearance Officer (see ADDRESSES, above).

Title of Collection: Federal Fish and Wildlife Permit Applications and Reports—Management Authority; 50 CFR 13, 15, 16, 17, 18, 22, 23.

OMB Control Number: 1018-0093.

Form Numbers: FWS Forms 3-200-19 through 3-200-37, 3-200-39 through 3-200-43, 3-200-46 through 3-200-53, 3-200-58, 3-200-61, 3-200-64 through 3-200-66, 3-200-69, 3-200-70, 3-200-73 through 3-200-76, 3-200-80, and 3-200-85 through 3-200-88.

Type of Review: Revision of a currently approved collection.

Description of Respondents/Affected Public: Individuals (including hunters); private sector (including biomedical companies, circuses, zoological parks, botanical gardens, nurseries, museums, universities, antique dealers, exotic pet industry, taxidermists, commercial importers/exporters of wildlife and plants, freight forwarders/brokers); and State, local, Tribal, and Federal governments.

Estimated Number of Annual Respondents: 6,659.

Estimated Number of Annual Responses: 8,912.

Estimated Completion Time per Response: Varies from 15 minutes to 43.5 hours, depending on activity.

Estimated Annual Burden Hours: 7,961.

Respondent's Obligation: Required to obtain or retain a benefit.

Frequency of Collection: On occasion or annually, depending on activity.

Total Estimated Annual Nonhour Burden Cost: $629,400 for costs associated with application processing fees, which range from $0 to $250. There is no fee for reports. State, local, Tribal, and Federal government agencies and those acting on their behalf are exempt from processing fees.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-13990 Filed 6-29-22; 8:45 am]

BILLING CODE 4333-15-P